DEPARTMENT OF TRANSPORTATION

Federal Aviation Administration

14 CFR Part 71

[Docket No. FAA-2018-0178; Airspace Docket No. 17-AWA-3]

RIN 2120-AA66

Amendment of Class B Airspace Description; St. Louis, MO

AGENCY: Federal Aviation Administration (FAA), DOT.

ACTION: Final rule, technical amendment.

SUMMARY: This action amends the description of the St. Louis, MO, Class B airspace area by changing the references for defining the center point of the airspace from the Cardinal VHF Omnidirectional Range/Distance Measuring Equipment (VOR/DME) to “Point of Origin” due to the planned decommissioning of the Cardinal, MO, VOR/DME. The St. Louis Class B airspace description is edited further to update the St. Louis Lambert International Airport name, St. Charles County Smartt Airport name, and airport reference point (ARP) geographic coordinates for the airports to match the current information in the FAA's aeronautical database. The Creve Coeur Airport ARP and St. Louis Lambert International Airport Instrument Landing System (ILS) Runway 30L Localizer geographic coordinates are also updated to match the FAA's aeronautical database. In addition, the airspace description is edited throughout to improve accuracy and clarity. These changes are editorial only and do not alter the current charted boundaries, altitudes, or ATC procedures for the St. Louis, MO, Class B airspace area.

DATES: Effective date: 0901 UTC, June 21, 2018. The Director of the Federal Register approves this incorporation by reference action under 1 CFR part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes editorial corrections to an existing Class B airspace description to maintain accuracy.

History

The St. Louis Class B airspace area was established as a “Terminal Control Area (TCA)” on January 1, 1974 (38 FR 31286, November 13, 1973). In 1993, as part of the Airspace Reclassification Final Rule (56 FR 65638, December 17, 1991), the term “terminal control area” was replaced by “Class B airspace area.” When the St. Louis TCA was established, the airspace was designed using the latitude/longitude position of the ASR antenna on the St. Louis International Airport as the center point. In 2006, the FAA amended the, then, St. Louis Class B airspace to ensure containment of large, turbine-powered aircraft operations to and from the “new” Runway 11/29 at the Lambert-St. Louis International Airport (71 FR 7848, February 15, 2006). At the same time, the Class B airspace was reconfigured to use the Cardinal VOR/DME as the center point.

As part of the FAA's VOR Minimum Operating Network (VOR MON) program¹, the Cardinal VOR was initially identified as a candidate VOR for discontinuance and is now planned for decommissioning on November 8, 2018. So there will be no change to the existing charted boundaries of the St. Louis Class B airspace area on Visual Flight Rules (VFR) aeronautical charts, the FAA is retaining the same geographic latitude/longitude coordinates of the Cardinal VOR/DME location as the center point for the Class B airspace. To accomplish this, all references to the Cardinal VOR/DME in the St. Louis Class B airspace description (as published in FAA Order 7400.11B) are replaced by “Point of Origin.” This practice is consistent with other Class B airspace locations that do not have a suitable navigation aid located on the airport.

¹ Listed in the Final policy statement notice, “Provision of Navigation Services for the Next Generation Air Transportation System (NextGen) Transition to Performance-Based Navigation (PBN) (Plan for Establishing a VOR Minimum Operational Network),” published in the Federal Register of July 26, 2016 (81 FR 48694).

Additionally, the FAA is making several other administrative updates to the Class B description to enhance the accuracy of the description and to clearly define each of the sub-areas that make up the Class B airspace area.

Class B airspace designations are published in paragraph 3000 of FAA Order 7400.11B, dated August 3, 2017, and effective September 15, 2017, which is incorporated by reference in 14 CFR 71.1. The Class B airspace designations listed in this document will be subsequently published in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by editing the description of the St. Louis, MO, Class B airspace (as published in FAA Order 7400.11B) to remove references to the “Cardinal VOR/DME” and replace them with “Point of Origin” for defining the center point of the airspace. The Point of Origin uses the same geographic latitude/longitude coordinates of the Cardinal VOR/DME location. The FAA is taking this action so that the currently charted boundaries of the Class B airspace area are not affected by the planned decommissioning of the Cardinal VOR/DME.

The Class B airspace description is also edited to update the “Lambert-St. Louis International Airport” name to “St. Louis Lambert International Airport” and the “St. Charles Municipal Airport” name to “St. Charles County Smartt Airport.” Additionally, the geographic coordinates for the St. Louis Lambert International Airport ARP are updated from “lat. 38°44′50″ N., long. 90°21′41″ W.” to “lat. 38°44′55″ N., long. 90°22′12″ W.”; the geographic coordinates for the St. Charles County Smartt Airport ARP are updated from “lat. 38°50′55″ N., long. 90°30′00″ W.” to “lat. 38°55′47″ N., long. 90°25′48″ W.”; the geographic coordinates for the Creve Coeur Airport ARP are updated from “lat. 38°43′36″ N., long. 90°30′30″ W.” to “lat. 38°43′38″ N., long. 90°30′30″ W.”; and the geographic coordinates for the St. Louis Lambert International Airport ILS Runway 30L Localizer are updated from “lat. 38°45′17″ N., long. 90°22′52″ W.” to “lat. 38°45′19″ N., long. 90°22′56″ W.” These airport name and geographic coordinate updates are made to match the data currently contained in the FAA's aeronautical database.

Lastly, the Class B airspace description is also edited to describe each existing sub-area as an independent area to improve the clarity of the Class B airspace area description overall.

Because this action is a minor editorial change that does not alter the currently charted boundaries, altitudes, or ATC procedures for the St. Louis Lambert International Airport, I find that notice and public procedure under 5 U.S.C § 553(b) are unnecessary and contrary to the public interest.

Regulatory Notices and Analyses

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending the description of the St. Louis, MO, Class B airspace area by changing the references for defining the center point of the airspace from the Cardinal VHF Omnidirectional Range/Distance Measuring Equipment (VOR/DME) to “Point of Origin” due to the planned decommissioning of the Cardinal, MO, VOR/DME, qualifies for categorical exclusion under the National Environmental Policy Act and its agency-specific implementing regulations in FAA Order 1050.1F, “Environmental Impacts: Policies and Procedures” regarding categorical exclusions for procedural actions at paragraph 5-6.5.a, which categorically excludes from full environmental impact review rulemaking actions that designate or modify classes of airspace areas, airways, routes, and reporting points. This airspace action is an editorial change only and is not expected to result in any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f),106(g), 40103, 40113, 40120; E.O. 10854, 24 FR 9565, 3 CFR, 1959-1963 Comp., p. 389.

§ 71.1 [Amended]

2. The incorporation by reference in 14 CFR 71.1 of FAA Order 7400.11B, Airspace Designations and Reporting Points, signed August 3, 2017, and effective September 15, 2017, is amended as follows:

Paragraph 3000 Subpart B—Class B Airspace.

* * * * *

ACE MO B St. Louis, MO

St. Louis Lambert International Airport, MO (Primary Airport)

(Lat. 38°44′55″ N, long. 90°22′12″ W)

Creve Coeur Airport, MO

(Lat. 38°43′38″ N, long. 90°30′30″ W)

St. Charles County Smartt Airport, MO

(Lat. 38°55′47″ N, long. 90°25′48″ W)

Point of Origin

(Lat. 38°45′10″ N, long. 90°21′39″ W)

Foristell VORTAC

(Lat. 38°41′40″ N, long. 90°58′17″ W)

ILS Runway 30L Localizer

(Lat. 38°45′19″ N, long. 90°22′56″ W)

Boundaries

Area A. That airspace extending upward from the surface to and including 8,000 feet MSL within a 6-NM radius of the Point of Origin, excluding that airspace within a 1.5-NM radius of the Creve Coeur Airport.

Area B. That airspace extending upward from 1,700 feet MSL to and including 8,000 feet MSL within an area bounded by a line beginning at the intersection of the 6-NM radius of the Point of Origin and Page Avenue; then northwest along Page Avenue to intersect Missouri Route 94; then west along Missouri Route 94 to intersect the 10-NM radius of the Point of Origin; then clockwise along the 10-NM radius of the Point of Origin to intersect the power lines located 2-NM north of the St. Charles County Smartt Airport; then southeast along the power lines to intersect the 6-NM radius of the Point of Origin; then counterclockwise along the 6-NM radius of the Point of Origin to intersect the 1.5-NM radius of the Creve Coeur Airport; then clockwise along the 1.5-NM radius of the Creve Coeur Airport to intersect the 6-NM radius of the Point of Origin; then counterclockwise along the 6-NM radius of the Point of Origin to the point of beginning.

Area C. That airspace extending upward from 2,000 feet MSL to and including 8,000 feet MSL within an area bounded by a line beginning at the intersection of the 10-NM radius of the Point of Origin and the power lines located 2-NM north of the St. Charles County Smartt Airport; then clockwise along the 10-NM radius of the Point of Origin to intersect Interstate 64; then west along Interstate 64 to intersect the 10-NM radius of the Point of Origin; then clockwise along the 10-NM radius of the Point of Origin to intersect Missouri Route 94; then eastward along Missouri Route 94 to intersect Page Avenue; then eastward along Page Avenue to intersect the 6-NM radius of the Point of Origin; then counterclockwise along the 6-NM radius of the Point of Origin to intersect the power lines located 6-NM north of the St. Louis Lambert International Airport; then westward along the power lines to the point of beginning.

Area D. That airspace extending upward from 2,500 feet MSL to and including 8,000 feet MSL within an area bounded by a line beginning at the intersection of the 10-NM radius of the Point of Origin and Interstate 64, then east along Interstate 64 to intersect the 10-NM radius of the Point of Origin, then clockwise along the 10-NM radius of the Point of Origin to the point of beginning.

Area E. That airspace extending upward from 3,000 feet MSL to and including 8,000 feet MSL within a 15-NM radius of the Point of Origin, excluding Area A, Area B, Area C, and Area D.

Area F. That airspace extending upward from 3,500 feet MSL to and including 8,000 feet MSL within an area bounded by a line beginning at the intersection of Interstate 64 and the 20-NM radius of the Point of Origin; then clockwise along the 20-NM radius of the Point of Origin to the intersection of the 20-NM radius of the Point of Origin and the island in the Illinois River (Lat. 39°02′25″ N, long. 90°34′40″ W); then southwest along a line direct to the intersection of the 15-NM radius and 340° bearing of the Point of Origin; then counterclockwise along the 15-NM radius of the Point of Origin to intersect Interstate 64, then northwest along Interstate 64 to the point of beginning.

Area G. That airspace extending upward from 3,500 feet MSL to and including 8,000 feet MSL within an area bounded by a line beginning at the intersection of Interstate 270 and the 20-NM radius of the Point of Origin; then clockwise along the 20-NM radius of the Point of Origin to intersect Illinois Route 3; then northwest along Illinois Route 3 to intersect Interstate 255; then northwest along Interstate 255 to intersect the 15-NM radius of the Point of Origin; then counterclockwise along the 15-NM radius of the Point of Origin to intersect Interstate 270, then east along Interstate 270 to the point of beginning.

Area H. That airspace extending upward from 4,500 feet MSL to and including 8,000 feet MSL within an area bounded by a line beginning at the intersection of the 20-NM radius and the 92° radial of the Point of Origin; then southeast along a line direct to the intersection of the 30-NM radius and 100° bearing of the Point of Origin; then clockwise along the 30-NM radius of the Point of Origin to intersect a point located 11.6-NM perpendicular and southwest of the ILS Runway 30L localizer signal (lat. 38°20′21″ N, long. 90°00′07″ W); then northwest direct to the intersection of Illinois Route 3 (Columbia, IL) and the 20-NM radius of the Point of Origin; then counterclockwise along the 20-NM radius of the Point of Origin to the point of beginning;

Area J. That airspace extending upward from 4,500 feet MSL to and including 8,000 feet MSL within an area bounded by a line beginning at the intersection of the 30-NM radius and 320° bearing of the Point of Origin; then southeast along a line direct to the intersection of the 20-NM radius of the Point of Origin and the island in the middle of the Illinois River (lat. 39°02′25″ N, long. 90°34′40″ W); then counterclockwise along 20-NM radius of the Point of Origin to intersect the 277° bearing of the Point of Origin; then along a line northwest direct to the intersection of the 30-NM radius and 286° bearing of the Point of Origin; then clockwise along the 30-NM radius of the Point of Origin to the point of beginning.

Area K. That airspace extending upward from 5,000 feet MSL to and including 8,000 feet MSL within an area bounded by a line beginning at the intersection of the 20-NM radius of the Point of Origin and the island in the middle of the Illinois River (lat. 39°02′25″ N, long. 90°34′40″ W); then clockwise along 20-NM radius of the Point of Origin to intersect Interstate 270; then west along Interstate 270 to intersect the 15-NM radius of the Point of Origin; then counterclockwise along the 15-NM radius of the Point of Origin to the intersection of the 15-NM radius and the 340° bearing of the Point of Origin; then northwest along a line direct to the point of beginning.

Area L. That airspace extending upward from 5,000 feet MSL to and including 8,000 feet MSL within an area bounded by a line beginning at the intersection of the 20-NM radius of the Point of Origin and Interstate 64; then southeast along Interstate 64 to intersect the 15-NM radius of the Point of Origin; then counterclockwise along the 15-NM radius of the Point of Origin to intersect Interstate 255; then southeast along Interstate 255 to intersect Illinois Route 3; then southeast along Illinois Route 3 to intersect the 20-NM radius of the Point of Origin; then clockwise along the 20-NM radius of the Point of Origin to the point of beginning.

Area M. That airspace extending upward from 5,000 feet MSL to and including 8,000 feet MSL within an area bounded by a line beginning at the intersection of the 30-NM radius and 286° bearing of the Point of Origin; then southeast along a line direct to the intersection of the 20-NM radius and 277° bearing of the Point of Origin; then counterclockwise along the 20-NM radius of the Point of Origin to intersect the power lines located 2.5-NM northwest of the Foristell VORTAC; then west along the power lines to intersect the 30-NM radius of the Point of Origin; then clockwise along the 30-NM radius of the Point of Origin to the point of beginning.

Issued in Washington, DC, on March 28, 2018.
Rodger A. Dean, Jr.,
Manager, Airspace Policy Group.

[FR Doc. 2018-06750 Filed 4-4-18; 8:45 am]

BILLING CODE 4910-13-P